NUCLEAR REGULATORY COMMISSION

[Docket No.: 40-8027]

Notice of Availability of the Draft Environmental Impact Statement for the Reclamation of Sequoyah Fuels Corporation Site in Gore, OK, NUREG 1888, and Notice of Public Meeting for Comment

AGENCY: Nuclear Regulatory Commission.

ACTION: Notice of Availability of Draft Environmental Impact Statement and Notice of Public Meeting for Comment.

SUMMARY: Notice is hereby given that the U.S. Nuclear Regulatory Commission (NRC) is issuing a Draft Environmental Impact Statement (DEIS) for the Sequoyah Fuels Corporation (SFC) license amendment application, dated January 28, 2003, and subsequently revised by letters dated February 27, 2004, and July 30, 2004, for the surface reclamation of SFC's former uranium conversion site near Gore, Oklahoma. The DEIS also addresses the SFC license amendment application dated June 12, 2003, for groundwater corrective actions at the SFC site.

The DEIS discusses the purpose and need for SFC's proposed surface reclamation activities and groundwater corrective actions and reasonable alternatives to the proposed action, including the no-action alternative. The DEIS also discusses the environment potentially affected by the SFC proposal, presents and compares the potential environmental impacts resulting from the proposed action and its alternatives, and identifies mitigation measures that could eliminate or lessen the potential environmental impacts.

The DEIS is being issued as part of the NRC's decision-making process on whether to approve SFC's proposed surface reclamation activities and groundwater corrective actions. Based on the preliminary evaluation in the DEIS, the NRC environmental review staff has concluded that the proposed action would have small effects on the physical environment and human communities with the exception of land use, for which the impact would be moderate. The DEIS is a preliminary analysis of the environmental impacts of the proposed action and its alternatives. The Final EIS and any decision documentation regarding the proposed action will not be issued until public comments on the DEIS have been received and evaluated. Notice of the availability of the Final EIS will be published in the Federal Register.

DATES: The NRC is offering an opportunity for public review and comment on the DEIS in accordance with applicable regulations, including NRC requirements in 10 CFR 51.73, 51.74, and 51.117. The comment period on this DEIS will be 45 days from the date the U.S. Environmental Protection Agency publishes the notice of availability in the Federal Register. Written comments submitted by mail should be postmarked by November 5, 2007 to ensure consideration. Comments mailed after that date will be considered to the extent practical. Comments will also be accepted by electronic or facsimile submission.

ADDRESSES: Members of the public are invited and encouraged to submit comments to the Chief, Rules Review and Directives Branch, Mailstop: T6-D59, U.S. Nuclear Regulatory Commission, Washington, DC 20555-0001. Please note Docket No. 40-8027 when submitting comments. Comments will also be accepted by e-mail at nrcrep@nrc.gov or by facsimile to (301) 415-5369, Attention: Allen Fetter.

Public Meeting: The NRC staff will hold a public meeting to present an overview of the DEIS and to accept oral and written public comments. Prior to the public meeting, the NRC staff will be available to informally discuss the SFC's proposed action and answer questions in an “open house” format. This “open house” format provides for one-on-one discussions with the NRC staff involved with the preparation of the SFC DEIS. The meeting date, time, and location are listed below:

Tuesday, October 16, 2007

Gore High School, 1200 Northway 10, Gore, Oklahoma 74435

Open house: 6 p.m.-7 p.m.

Public Meeting: 7 p.m.-10 p.m.

The meeting will be transcribed and will include: (1) A presentation summarizing the contents of the DEIS; and (2) an opportunity for interested government agencies, organizations, and individuals to provide comments on the DEIS. Persons wishing to provide oral comments can register in advance by contacting Mr. Fetter at (301) 415-8556 by October 4, 2007, or at the public meeting. Individual oral comments may have to be limited by the time available, depending upon the number of persons who register.

If special equipment or accommodations are needed to attend or present information at the public meeting, the need should be brought to Mr. Fetter's attention not later than October 4, 2007, to provide NRC staff with adequate notice to determine whether the request can be accommodated.

FOR FURTHER INFORMATION CONTACT: For environmental review questions, please contact Allen Fetter at (301) 415-8556. For questions related to the safety review or overall licensing of the SFC site, please contact Myron Fliegel at (301) 415-6629.

Information and documents associated with the SFC's proposed surface reclamation activities and groundwater corrective actions, including the DEIS (ADAMS Accession No.: ML072570039), are available for public review through the NRC electronic reading room: http://www.nrc.gov/reading-rm-html. Any comments of Federal, State, and local agencies, Indian tribes, or other interested persons will be made available for public inspection when received. Documents may also be obtained from NRC's Public Document Room located at NRC Headquarters, 11555 Rockville Pike (first floor), Rockville, Maryland. For those without access to the Internet, paper copies of any electronic documents may be obtained for a fee by contacting the NRC's Public Document Room at 1-800-397-4209.

SUPPLEMENTARY INFORMATION: The NRC staff has prepared a DEIS in response to two license amendment requests submitted by SFC for the surface reclamation and groundwater restoration at SFC's former uranium conversion site near Gore, Oklahoma. The DEIS was prepared by the staff of the NRC and its contractor, Ecology & Environment, in compliance with the National Environmental Policy Act (NEPA) and the NRC's regulations for implementing NEPA (10 CFR Part 51). The proposed action involves a decision by NRC of whether to approve SFC's amendment requests to conduct surface reclamation activities and groundwater corrective actions at its site.

The NRC staff published a Notice of Intent to prepare an EIS for the Sequoyah Fuels Corporation Site and to conduct a scoping process, in the Federal Register on October 20, 1995 (60 FR 54260). The public scoping meeting was held in Gore, Oklahoma on November 15, 1995. Following the NRC's 2002 reclassification of waste at the SFC site as 11e.(2) byproduct material and transfer of the NRC regulatory oversight to Appendix A of Part 40, NRC held a rescoping meeting on May 13, 2003 (68 FR 20033). The Rescoping Summary Report was issued in November 2003 (ADAMS Accession No.: ML033170349).

The DEIS describes the proposed action and reasonable alternatives to the proposed action, including the no-action alternative. The NRC staff assesses the impacts of the proposed action and it's alternative on public and occupational health, air quality, water resources, waste management, geology and soils, noise, ecology resources, land use, transportation, historical and cultural resources, visual and scenic resources, socioeconomics, accidents and environmental justice. Additionally, the DEIS analyzes and compares the costs and benefits of the proposed action.

Based on the preliminary evaluation in the DEIS, the NRC environmental review staff has concluded that the proposed action should be approved, unless safety issues mandate otherwise, with implementation of the proposed mitigation measures that could eliminate or lessen the potential environmental impacts. The DEIS is a preliminary analysis of the environmental impacts of the proposed action and its alternatives. The Final EIS and any decision documentation regarding the proposed action will not be issued until public comments on the DEIS have been received and evaluated. Notice the availability of the Final EIS will be published in the Federal Register.

Dated at Rockville, Maryland, this 17th day of September, 2007.
For the U.S. Nuclear Regulatory Commission.
Scott C. Flanders,
Deputy Director, Environmental and Performance Assessment Directorate, Division of Waste Management and Environmental Protection, Office of Federal and State Materials and Environmental Management Programs.

[FR Doc. E7-18640 Filed 9-20-07; 8:45 am]

BILLING CODE 7590-01-P